DEPARTMENT OF COMMERCE

National Institute of Standards and Technology

Notice of Invention Available for Licensing

AGENCY: National Institute of Standards and Technology, Commerce.

ACTION: Notice of invention available for licensing.

SUMMARY: The invention listed below is owned by the U.S. Government, as represented by the Department of Commerce. The Department of Commerce's interest in the invention is available for licensing in accordance with 35 U.S.C. 207 and 37 CFR part 404 to achieve expeditious commercialization of results of federally funded research and development.

FOR FURTHER INFORMATION CONTACT: Technical and licensing information on this invention may be obtained by writing to: National Institute of Standards and Technology, Office of Technology Partnerships, Building 222, Room A242, Gaithersburg, MD 20899. Information is also available via telephone: 301-975-2649, fax 301-975-3482, or e-mail: nathalie.rioux@nist.gov. Any request for information should include the NIST Docket number or Patent number and title for the invention as indicated below. The invention available for licensing is:

[NIST Docket Number: 06-011CIP]

Title: Gradient Elution Electrophoresis and Detectorless Electrophoresis Apparatus.

Abstract: A microfluidic apparatus and method for performing electrophoretic separation of compounds. The apparatus comprises: (a) A first container for containing a sample fluid; (b) a second container for containing a separation buffer fluid; (c) a channel of a first length having an inlet end and an outlet end, the inlet end connected to the first container and the outlet end connected to the second container; (d) a voltage device electrically connected to the first container and the second container, the voltage device facilitating adjustment of the amount of voltage to the first container and the second container; (e) a controller for controlling the velocity flow of the sample fluid through the channel from the first container towards the second container; and (f) a measuring device for measuring the current through the channel. The method comprises the steps of: (a) Providing a separation buffer; (b) providing a sample solution in fluid contact with the separation buffer; (c) applying an electric field to the separation buffer; and (d) producing a variable bulk flow of the separation buffer in a direction substantially aligned with said electric field. Fluid contact between the separation buffer and the sample solution is made through a separation column having a length in the range of from approximately .01 mm to approximately 5 mm. By the foregoing, compounds can be sequentially detected and quantified.

Dated: April 21, 2010.
Marc G. Stanley,
Acting Deputy Director.

[FR Doc. 2010-9747 Filed 4-26-10; 8:45 am]

BILLING CODE 3510-13-P